DEPARTMENT OF VETERANS AFFAIRS

National Research Advisory Council; Notice of Meeting

The Department of Veterans Affairs (VA) gives notice under Pub. L. 92-463 (Federal Advisory Committee Act) that the National Research Advisory Council will hold a meeting on Tuesday, April 13, 2004, at the Sofitel Lafayette Square, 806 15th Street, NW., Washington, DC 20005, from 8:30 a.m. until 3 p.m. The meeting is open to the public. The purpose of the Council is to provide external advice and review for VA's research mission.

The meeting will begin with opening remarks by the Acting Chief Research and Development Officer. The Council will receive informational briefings on the status of the VA research program.

Any member of the public wishing to attend the meeting or wishing further information should contact Ms. Karen Scott, Designated Federal Officer, at (202) 254-0200. Oral comments from the public will not be accepted at the meeting. Written statements or comments should be transmitted electronically to Karen.scott@hq.med.va.gov or mailed to Ms. Scott at Department of Veterans Affairs, Office of Research and Development (12C), 810 Vermont Ave., NW., Washington, DC 20420. Items mailed via United States Postal Service require 7-10 days for delivery due to delays resulting from security measures.

Dated: March 24, 2004.
By Direction of the Secretary.
E. Philip Riggin,
Committee Management Officer.

[FR Doc. 04-7397 Filed 4-1-04; 8:45 am]

BILLING CODE 8320-01-M